DEPARTMENT OF COMMERCE

International Trade Administration

[A-580-810 and A-583-815]

Welded ASTM A-312 Stainless Steel Pipe From the Republic of Korea and Taiwan: Final Results of Expedited Fifth Sunset Reviews of the Antidumping Duty Orders

AGENCY: Enforcement and Compliance, International Trade Administration, Department of Commerce.

SUMMARY: As a result of these expedited sunset reviews, the U.S. Department of Commerce (Commerce) finds that revocation of the antidumping duty (AD) orders on welded ASTM A-312 stainless steel pipe (WSSP) from the Republic of Korea (Korea) and Taiwan would be likely to lead to continuation or recurrence of dumping at the levels indicated in the “Final Results of Review” section of this notice.

DATES: Applicable October 31, 2022.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On May 2, 2022, Commerce published the notice of initiation of the sunset review of the AD orders on WSSP from Korea and Taiwan, pursuant to section 751(c) of the Tariff Act of 1930, as amended (the Act).¹ On May 13, 2022, Commerce received a notice of intent to participate from the domestic interested parties ² for both of the Orders within the 15-day deadline specified in 19 CFR 351.218(d)(1)(i).³ The domestic interested parties claimed interested party status under section 771(9)(C) of the Act, as manufacturers of the domestic like product in the United States.⁴ On June 1, 2022, the domestic interested parties submitted a timely substantive response for both sunset reviews within the 30-day deadline specified in 19 CFR 351.218(d)(3)(i).⁵ Commerce did not receive a substantive response from any other interested parties with respect to the Orders covered by these sunset reviews.

¹ See Initiation of Five-Year (Sunset) Review, 87 FR 25617 (May 2, 2022). See also Antidumping Duty Order and Clarification of Final Determination: Certain Welded Stainless Steel Pipes from Korea, 57 FR 62301 (December 30, 1992); Notice of Amended Final Determination and Antidumping Duty Order: Certain Welded Stainless Steel Pipe from the Republic of Korea, 60 FR 10064 (February 23, 1995) (Korea Order); Amended Final Determination and Antidumping Duty Order: Certain Welded Stainless Steel Pipe from Taiwan, 57 FR 62300 (December 30, 1992); and Notice of Amended Final Determination and Antidumping Duty Order; Certain Welded Stainless Steel Pipes from Taiwan, 59 FR 6619 (February11, 1994) (Taiwan Order) (collectively Orders).

² The domestic interested parties are Bristol Metals, Felker Brothers Corporation and Primus Pipe & Tube Inc. These domestic parties are producers of welded austenitic stainless steel pipe in the United States. Bristol Metals was a petitioner in the original AD investigation.

³ See Domestic Interested Parties' Letters, “Notice of Intent to Participate—South Korea,” dated May 13, 2022; and “Notice of Intent to Participate—Taiwan,” dated May 13, 2022.

⁴ Id. at 2.

⁵ See Domestic Interested Parties' Letters, “Substantive Response of Domestic Producers to Notice of Initiation,” dated June 1, 2022; and “Substantive Response of Domestic Producers to Notice of Initiation,” dated June 1, 2022.

On June 21, 2022, Commerce notified the U.S. International Trade Commission that it did not receive an adequate substantive response from respondent interested parties in either of these sunset reviews.⁶ As a result, pursuant to section 751(c)(3)(B) of the Act and 19 CFR 351.218(e)(1)(ii)(C)(2), Commerce is conducting expedited (120-day) sunset reviews of these Orders.

⁶ See Commerce's Letter, “Sunset Reviews Initiated on May 2, 2022,” dated June 21, 2022.

Scope of the Orders

The products covered by the Orders are shipments of WSSP from Korea and Taiwan that meet the standards and specifications set forth by the American Society for Testing and Materials (ASTM) for the welded form of chromium-nickel pipe designated ASTM A-312. For a full description of the scope of the Orders, see the Issues and Decision Memorandum.⁷

⁷ See Memorandum, “Issues and Decision Memorandum for the Final Results of the Fifth Expedited Sunset Reviews of the Antidumping Duty Orders on Welded ASTM A-312 Stainless Steel Pipe from the Republic of Korea and Taiwan,” dated concurrently with, and hereby adopted by, this notice (Issues and Decision Memorandum).

Analysis of Comments Received

All issues raised in these sunset reviews are addressed in the Issues and Decision Memorandum. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx.

Final Results of Sunset Reviews

Pursuant to sections 751(c) and 752(c) of the Act, Commerce determines that revocation of the Orders would be likely to lead to continuation or recurrence of dumping, and that the magnitude of the dumping margins likely to prevail would be weighted-average margins of up to 17.14 percent for Korea and up to 31.90 percent for Taiwan.

Administrative Protective Order

This notice serves as the only reminder to parties subject to an administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notification to Interested Parties

We are issuing and publishing these final results in accordance with sections 751(c), 752(c), and 777(i)(1) of the Act, and 19 CFR 351.218(e)(1)(ii)(C)(2) and 19 CFR 351.221(c)(5)(ii).

Dated: August 29, 2022.
Lisa W. Wang,
Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2022-23600 Filed 10-28-22; 8:45 am]

BILLING CODE 3510-DS-P